DEPARTMENT OF HOMELAND SECURITY

[Docket No. CISA-2025-0002]

Agency Information Collection Activities: Extension/Renewal of a Currently Approved Information Collection for Cybersecurity and Infrastructure Security Agency (CISA) Visitor Request Form

AGENCY: Cybersecurity and Infrastructure Security Agency (CISA), Department of Homeland Security (DHS).

ACTION: 60-Day notice and request for comments; This a renewal of existing 11000-39 Visitor Request Form, 1670-0036 that was previously approved on August 05, 2022, with an expiration date of August 31, 2025.

SUMMARY: The Office of the Chief Security Officer (OCSO) within Cybersecurity and Infrastructure Security Agency (CISA) submits the following Information Collection Request (ICR) to the Office of Management and Budget (OMB) for review and clearance.

DATES: Comments are encouraged and will be accepted until October 20, 2025.

Submissions received after the deadline for receiving comments may not be considered.

ADDRESSES: You may submit comments, identified by docket number Docket #CISA-2025-0002, by following the instructions below for submitting comment via the Federal eRulemaking Portal at http://www.regulations.gov.

Instructions: All comments received must include the agency name and docket number Docket #CISA-2025-0002. All comments received will be posted without change to http://www.regulations.gov, including any personal information provided.

Docket: For access to the docket to read background documents or comments received, go to http://www.regulations.gov.

FOR FURTHER INFORMATION CONTACT: Michael A. Washington, Jr., 703-235-1925, Michael.Washington@mail.cisa.dhs.gov.

SUPPLEMENTARY INFORMATION: Public Law 107-296 The Homeland Security Act of 2002, Title II, recognizes the Department of Homeland Security's role in integrating relevant critical infrastructure and cybersecurity information, analyses, and vulnerability assessments (whether such information, analyses, or assessments are provided or produced by the Department or others) in order to identify priorities for protective and support measures by the Department, other agencies of the Federal Government, State and local government agencies and authorities, the private sector, and other entities while maintaining positive control of sensitive information regarding the national infrastructure. In support of this mission, CISA Office of the Chief Security Officer (OCSO) must maintain a robust visitor screening capability.

CISA OCSO will collect, using an electronic form, information about each potential visitor to CISA facilities and the nature of each visit. CISA OCSO will use collected information to make a risk-based decision to allow visitor access to CISA facilities.

This is an extension of an existing information collection.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Cybersecurity and Infrastructure Security Agency (CISA), Department of Homeland Security (DHS).

Title: Cybersecurity and Infrastructure Security Agency (CISA) Visitor Request Form.

OMB Number: 1670-0036.

Frequency: Annually.

Affected Public: Private and Public Sector.

Number of Respondents: 20,000.

Estimated Time per Respondent: 10 minutes.

Total Burden Hours: 3,333 hours.

Total Annualized Respondent Cost: $158,010.66.

Total Annualized Government Cost: $366,514.16.

Robert J. Costello,
Chief Information Officer, Department of Homeland Security, Cybersecurity and Infrastructure Security Agency.

[FR Doc. 2025-15860 Filed 8-19-25; 8:45 am]

BILLING CODE 9111-LF-P